DEPARTMENT OF COMMERCE

National Oceanic and Atmospheric Administration

50 CFR Part 648

[Docket No. 041221358-5065-02; I.D. 042005B]

Fisheries of the Northeastern United States; Atlantic Mackerel, Squid, and Butterfish Fisheries; Closure of the Quarter II Fishery for Loligo Squid

AGENCY: National Marine Fisheries Service (NMFS), National Oceanic and Atmospheric Administration (NOAA), Commerce.

ACTION: Closure.

SUMMARY: NMFS announces that the directed fishery for Loligo squid in the Exclusive Economic Zone (EEZ) will be closed effective 0001 hours, April 25, 2005. Vessels issued a Federal permit to harvest Loligo squid may not retain or land more than 2,500 lb (1,134 kg) of Loligo squid per trip for the remainder of the quarter (through June 30, 2005). This action is necessary to prevent the fishery from exceeding its Quarter II quota and to allow for effective management of this stock.

DATES: Effective 0001 hours, April 25, 2005, through 2400 hours, June 30, 2005.

FOR FURTHER INFORMATION CONTACT: Jason Blackburn, Fishery Management Specialist, 978-281-9326, Fax 978-281-9135.

SUPPLEMENTARY INFORMATION: Regulations governing the Loligo squid fishery are found at 50 CFR part 648. The regulations require specifications for maximum sustainable yield, initial optimum yield, allowable biological catch, domestic annual harvest (DAH), domestic annual processing, joint venture processing, and total allowable levels of foreign fishing for the species managed under the Atlantic Mackerel, Squid, and Butterfish Fishery Management Plan. The procedures for setting the annual initial specifications are described in § 648.21.

The final rule for the 2005 annual specifications published on March 21, 2005 (70 FR 13406). The 2005 annual quota for Loligo squid is 16,744.9 mt. This amount is allocated by quarter, as shown below.

Table 1.—Loligo Squid Quarterly Allocations
Quarter | Percent | Metric Tons¹ | Research Set-aside
I (Jan-Mar) | 33.23 | 5,564.3 | N/A
II(Apr-Jun) | 17.61 | 2,948.8 | N/A
III(Jul-Sep) | 17.3 | 2,896.9 | N/A
IV (Oct-Dec) | 31.86 | 5,334.9 | N/A
Total | 100 | 16,744.9 | 255.1
¹Quarterly allocations after 255.1-mt research set-aside deduction.

Section 648.22 requires NMFS to close the directed Loligo squid fishery in the EEZ when 80 percent of the quarterly allocation is harvested in Quarters I, II, and III, and when 95 percent of the total annual DAH has been harvested. NMFS is further required to notify, in advance of the closure, the Executive Directors of the Mid-Atlantic, New England, and South Atlantic Fishery Management Councils; mail notification of the closure to all holders of Loligo squid permits at least 72 hours before the effective date of the closure; provide adequate notice of the closure to recreational participants in the fishery; and publish notification of the closure in the Federal Register. The Administrator, Northeast Region, NMFS, based on dealer reports and other available information, has determined that 80 percent of the DAH for Loligo squid in Quarter II will be harvested. Therefore, effective 0001 hours, April 25, 2005, the directed fishery for Loligo squid is closed and vessels issued Federal permits for Loligo squid may not retain or land more than 2,500 lb (1,134 kg) of Loligo during a calendar day. The directed fishery will reopen effective 0001 hours, July 1, 2005, when the Quarter III quota becomes available.

Classification

This action is required by 50 CFR part 648 and is exempt from review under Executive Order 12866.

Authority: 16 U.S.C. 1801 et seq.

Dated: April 20, 2005.
Alan D. Risenhoover,
Acting Director, Office of Sustainable Fisheries, National Marine Fisheries Service.

[FR Doc. 05-8310 Filed 4-21-05; 2:50 pm]

BILLING CODE 3510-22-S